DEPARTMENT OF COMMERCE

International Trade Administration

[A-428-840]

Lightweight Thermal Paper From Germany: Final Results of the Antidumping Duty Administrative Review; 2012-2013

AGENCY: Enforcement and Compliance, International Trade Administration, Department of Commerce.

SUMMARY: On December 1, 2014, the Department of Commerce (the Department) published the preliminary results of the administrative review of the antidumping duty order on lightweight thermal paper (LWTP) from Germany.¹ The period of review (POR) is November 1, 2012, through October 31, 2013. We invited interested parties to comment on the preliminary results. After reviewing the comments received and making corrections to the margin calculation program, we continue to find that Papierfabrik August Koehler SE (Koehler) did not make sales of subject merchandise at less than normal value. The final dumping margin for Koehler, listed below in the section entitled “Final Results of the Review,” is unchanged from the preliminary results.

¹ See Lightweight Thermal Paper from Germany; Preliminary Results of Antidumping Duty Administrative Review; 2012-2013, 79 FR 71086 (December 1, 2014) (Preliminary Results).

DATES: Effective Date: April 7, 2015.

FOR FURTHER INFORMATION CONTACT: David Goldberger, AD/CVD Operations, Office II, Enforcement and Compliance, International Trade Administration, U.S. Department of Commerce, 14th Street and Constitution Avenue NW., Washington, DC, 20230; telephone (202) 482-4136.

Background

Since the publication of the Preliminary Results, in January 2015, Koehler submitted a case brief. The Department is conducting this administrative review in accordance with section 751(a)(1) of the Tariff Act of 1930, as amended (the Act).

Scope of the Order

The merchandise covered by the order is LWTP.²

² For a complete description of the scope, see Antidumping Duty Orders: Lightweight Thermal Paper from Germany and the People's Republic of China, 73 FR 70959 (November 24, 2008). See also memorandum entitled “Lightweight Thermal Paper from Germany: Issues and Decision Memorandum for the Final Results of the Antidumping Duty Administrative Review; 2012-2013” (Issues and Decision Memorandum).

Analysis of Comments Received

All issues raised in the case and rebuttal briefs by parties are addressed in the Issues and Decision Memorandum, which is dated concurrently with, and adopted by, this notice. A list of the issues which parties raised and to which we respond in the Issues and Decision Memorandum is attached to this notice as Appendix I. The Issues and Decision Memorandum is a public document and is on file electronically via Enforcement and Compliance's Antidumping and Countervailing Duty Centralized Electronic Service System (ACCESS).³ ACCESS is available to registered users at http://access.trade.gov and to all parties in the Central Records Unit, room 7046 of the main Department of Commerce building. In addition, a complete version of the Issues and Decision Memorandum can be accessed directly on the Internet at http://enforcement.trade.gov/frn/. The signed and electronic versions of the Issues and Decision Memorandum are identical in content.

³ On November 24, 2014, Enforcement and Compliance changed the name of Import Administration's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Final Results of the Review

As a result of this review, we determine that the following weighted-average dumping margin exists for the period November 1, 2012, through October 31, 2013.

Manufacturer/Exporter | Percent margin
Papierfabrik August Koehler SE | 0.00

Disclosure

We intend to disclose the calculations performed within five days of the date of publication of this notice to parties in this proceeding in accordance with 19 CFR 351.224(b).

Assessment Rates

The Department will determine, and U.S. Customs and Border Protection (CBP) shall assess, antidumping duties on all appropriate entries, in accordance with 19 CFR 351.212(b). The Department intends to issue appropriate assessment instructions to CBP 15 days after publication of these final results of review. Because we have calculated a zero margin for Koehler in the final results of this review, we will instruct CBP to liquidate the appropriate entries without regard to antidumping duties.

The Department clarified its “automatic assessment” regulation on May 6, 2003.⁴ This clarification applies to entries of subject merchandise during the POR produced by Koehler for which it did not know that the merchandise was destined for the United States. In such instances, we will instruct CBP to liquidate unreviewed entries at the all-others rate effective during the POR if there is no rate for the intermediate company(ies) involved in the transaction. See Assessment Policy Notice for a full discussion of this clarification.

⁴ See Antidumping and Countervailing Duty Proceedings: Assessment of Antidumping Duties, 68 FR 23954 (May 6, 2003) (Assessment Policy Notice).

Discontinuation of Cash Deposit Requirements

On January 22, 2015, the U.S. International Trade Commission determined, pursuant to section 751(c) of the Act (i.e., as a result of a five-year “sunset” review), that revocation of the antidumping duty order on the subject merchandise would not be likely to lead to the continuation or recurrence of material injury to an industry in the United States within a reasonably foreseeable time.⁵ Accordingly, the antidumping duty order on LWTP from Germany was revoked effective November 24, 2013.⁶ As a result, we have instructed CBP to discontinue collection of cash deposits of antidumping duties on entries of the subject merchandise made on or after November 24, 2013.

⁵ See Lightweight Thermal Paper From China And Germany; Determination, 80 FR 3252 (January 22, 2015).

⁶ See Lightweight Thermal Paper From the People's Republic of China and Germany: Continuation of the Antidumping and Countervailing Duty Orders on the People's Republic of China, Revocation of the Antidumping Duty Order on Germany, 80 FR 5083 (January 30, 2015).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

The final results of this administrative review and notice are published in accordance with sections 751(a)(1) and 777(i)(1) of the Act and 19 CFR 351.221.

Dated: March 31, 2015.
Paul Piquado,
Assistant Secretary for Enforcement and Compliance.

Appendix I

Topic Discussed in the Issues and Decision Memorandum

1. Ministerial Errors in Margin Calculation Program

[FR Doc. 2015-07974 Filed 4-6-15; 8:45 am]

BILLING CODE CODE 3510-DS-P